DEPARTMENT OF EDUCATION

Reopening the Fiscal Year 2016 Competition for Certain Eligible Applicants; Investing in Innovation Fund—Development Grants Full Application

[Catalog of Federal Domestic Assistance (CFDA) Number: 84.411C]

AGENCY: Office of Innovation and Improvement, Department of Education.

ACTION: Notice.

SUMMARY: On April 25, 2016, we published in the Federal Register (81 FR 24070) a notice inviting applications for new awards for fiscal year (FY) 2016 for the Investing in Innovation (i3) Fund Development competition. The Department reopens the FY 2016 i3 Development Grants competition for, and will accept applications from, certain prospective eligible applicants affected by the severe storms and flooding beginning on August 11, 2016, and continuing, in Louisiana. We are reopening this competition in order to help affected eligible applicants compete fairly with other eligible applicants under this competition.

Dates:

Deadline for Transmittal of Applications for Eligible Applicants: August 30, 2016.

Deadline for Intergovernmental Review: October 24, 2016.

SUPPLEMENTARY INFORMATION: On April 25, 2016, we published in the Federal Register (81 FR 24070) a notice inviting applications for new awards for FY 2016 for the i3 Development competition. The deadline for transmittal of full applications was August 16, 2016. We are reopening this competition in order to allow certain eligible applicants affected by the severe storms and flooding in Louisiana (described in more detail below) more time to prepare and submit their applications.

Eligibility: Applicants are eligible to submit applications under this reopened competition if they are located in a Federally declared disaster area, as determined by the Federal Emergency Management Agency (FEMA) (see www.fema.gov/news/disasters.fema), and adversely affected by the severe storms and flooding beginning on August 11, 2016, and continuing, in Louisiana.

Under section 14007(a)(1) of the American Recovery and Reinvestment Act of 2009 (ARRA) (Pub. L. 111-5), an eligible applicant for the Investing in Innovation Fund is (a) a local educational agency (LEA) or (b) a partnership between a nonprofit organization and (1) one or more LEAs or (2) a consortium of schools. An eligible applicant that is a partnership may apply under this reopened competition if any of the entities required to be part of the partnership (i.e., a nonprofit organization, an LEA, or a consortium of schools) are located in a Federally declared disaster area, as determined by FEMA, and adversely affected by the severe storms and flooding in Louisiana.

An eligible applicant must provide a certification in its application that it meets the criteria for submitting an application as part of the reopened competition and be prepared to provide appropriate supporting documentation, if requested. If such an eligible applicant is submitting its application electronically, the submission of the application serves as the eligible applicant's attestation that it meets the criteria for submitting an application as part of this reopened competition.

We are not reopening the application period for any other applicants. Thus, applications from applicants not affected by the severe storms and flooding that were not timely submitted may not be submitted as part of this reopened competition.

Note: All information in the NIA for this competition remains the same, except for the deadline date for certain eligible applicants and the deadline for intergovernmental review.

Program Authority: ARRA, Division A, Section 14007, Pub. L. 111-5.

FOR FURTHER INFORMATION CONTACT: Kelly Terpak, U.S. Department of Education, 400 Maryland Avenue SW., Room 4W312, Washington, DC 20202. Telephone: (202) 245-7122. Email address: i3@ed.gov.

If you use a telecommunications device for the deaf or a text telephone, call the Federal Relay Service (FRS), toll free, at 1-800-877-8339.

Accessible Format: Individuals with disabilities can obtain this document and a copy of the application package in an accessible format (e.g., braille, large print, audiotape, or compact disc) on request to the program contact person listed under FOR FURTHER INFORMATION CONTACT in this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: August 19, 2016.
Nadya Chinoy Dabby,
Assistant Deputy Secretary for Innovation and Improvement.

[FR Doc. 2016-20268 Filed 8-23-16; 8:45 am]

BILLING CODE 4000-01-P